AGENCY FOR INTERNATIONAL DEVELOPMENT

Food Security Advisory Committee, of the Board of International Food and Agricultural Development; Notice of Meeting

Pursuant to the Federal Advisory Committee Act, notice is hereby given for a meeting of the Food Security Advisory Committee (FSAC). The meeting will be held from 8:30 a.m. to 5 p.m. on September 19, 2001 in the NASULGC Board Room, ground floor of 1307 New York Avenue, NW., Washington, DC.

The agenda calls for FSAC to review the draft U.S. statement for the next World Food Summit, solicit civil society input, and report findings and recommendations to the Interagency Working Group (IWG) on Food Security.

Those wishing to attend the meeting or to obtain additional information about FSAC may contact Larry Paulson, BIFAD Federal Officer, at the U.S. Agency for International Development, Ronald Reagan Building, Office of Agriculture and Food Security, 1300 Pennsylvania Avenue, NW., Room 2.11-072, Washington, DC 20523-2110; or phone (202)-712-1436, fax (202-216-3010, or e-mail lpaulson@usaid.gov.

Lawrence E. Paulson,
BIFAD Federal Officer, Office of Agriculture and Food Security, Center for Economic Growth & Agricultural Development Center, Bureau for Global Programs, USAID.

[FR Doc. 01-23305 Filed 9-18-01; 8:45 am]

BILLING CODE 6116-01-M